NUCLEAR REGULATORY COMMISSION

[NRC-2018-0131]

Monitoring the Effectiveness of Maintenance at Nuclear Power Plants

AGENCY: Nuclear Regulatory Commission.

ACTION: Regulatory guide; issuance.

SUMMARY: The U.S. Nuclear Regulatory Commission (NRC) is issuing Revision 4 to Regulatory Guide (RG) 1.160, “Monitoring the Effectiveness of Maintenance at Nuclear Power Plants.” Regulatory Guide 1.160, Revision 4, has been revised to address new issues identified since Revision 3 of RG 1.160 was issued. This RG endorses, with clarifications, NUMARC 93-01, “Industry Guidelines for Monitoring the Effectiveness of Maintenance at Nuclear Power Plants,” Revision 4F. The proposed revision describes methods that are acceptable to the NRC staff for compliance with the requirements for monitoring the effectiveness of maintenance at nuclear power plants.

DATES: Revision 4 to RG 1.160 is available on September 26, 2018.

ADDRESSES: Please refer to Docket ID NRC-2018-0131 when contacting the NRC about the availability of information regarding this document. You may obtain publicly-available information related to this document using any of the following methods:

• Federal Rulemaking Website: Go to http://www.regulations.gov and search for Docket ID NRC-2018-0131. Address questions about NRC dockets to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. Revision 4 to RG 1.160 and the regulatory analysis may be found in ADAMS under Accession Nos. ML18220B281 and ML18129A085 respectively.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Stephen Campbell, Office of Nuclear Reactor Regulation, telephone: 301-415-3353, email: Stephen.Campbell@nrc.gov and Stephen Burton, telephone: 301-415-7000, email: Stephen.Burton@nrc.gov. Both are staff of the U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 4 of RG 1.160 was issued with a temporary identification of Draft Regulatory Guide, DG-1336. This revision of the guide addresses new issues identified since the guide was previously issued and updates the guidance by endorsing Revision 4F of NUMARC 93-01, “Industry Guideline for Monitoring the Effectiveness of Maintenance at Nuclear Power Plants.” NUMARC 93-01, Revision 4F addresses the application of the Maintenance Rule (title 10 of the Code of Federal Regulations (CFR) section 50.65) to address the use of diverse and flexible coping strategies.

II. Additional Information

The NRC published a notice of the availability of DG-1336 in the Federal Register on June 28, 2018 (83 FR 30469) for a 30-day public comment period. The public comment period closed on July 30, 2018. Public comments on DG-1336 and the staff responses to the public comments are available under ADAMS under Accession No. ML18220B279.

III. Congressional Review Act

This RG is a rule as defined in the Congressional Review Act (5 U.S.C. 801-808). However, the Office of Management and Budget has not found it to be a major rule as defined in the Congressional Review Act.

IV. Backfitting and Issue Finality

This RG describes methods acceptable to the staff of the NRC for demonstrating compliance with the provisions of 10 CFR 50.65, “Requirements for Monitoring the Effectiveness of Maintenance at Nuclear Power Plants,” of 10 CFR part 50, “Domestic Licensing of Production and Utilization Facilities.” Issuance of this RG does not constitute backfitting as defined in 10 CFR 50.109 (the Backfit Rule) and is not otherwise inconsistent with the issue finality provisions in 10 CFR part 52. As discussed in the “Implementation” section of this RG, the NRC has no current intention to impose this guidance on holders of current operating licenses or combined licenses.

This RG may be applied to applications for amendments to operating licenses or combined licenses docketed by the NRC as of the date of issuance, as well as future applications submitted after the issuance of this regulatory guide. Such action would not constitute backfitting as defined in the Backfit Rule or be otherwise inconsistent with the applicable issue finality provision in 10 CFR part 52, inasmuch as such applicants or potential applicants, with certain exceptions described below, are not within the scope of entities that are the subject of the Backfit Rule or the relevant issue finality provisions in 10 CFR part 52. This RG may be used by existing holders of combined licenses and operating licenses in accordance with their existing licensing basis and applicable regulatory requirements.

The exceptions to the general principle are applicable whenever a combined license applicant references a 10 CFR part 52 license (i.e., an early site permit or a manufacturing license) and/or 10 CFR part 52 regulatory approval (i.e., a design certification rule or design approval). However, the matters addressed in this RG (monitoring the effectiveness of maintenance at nuclear power plants) have not previously been proposed for resolution in a 10 CFR part 52 license or regulatory approval. The NRC staff does not, at this time, intend to impose the positions represented in the RG in a manner that is inconsistent with any issue finality provisions in these 10 CFR part 52 licenses and regulatory approvals. If, in the future, the NRC staff seeks to impose a position in this RG in a manner that does not provide issue finality as described in the applicable issue finality provision, then the NRC staff must address the criteria for avoiding issue finality as described in the applicable issue finality provision.

Further information on the staff's use of the RG is contained in the RG under Section D, “Implementation.”

Dated at Rockville, Maryland, this 20th day of September, 2018.
For the Nuclear Regulatory Commission.
Thomas H. Boyce,
Chief, Regulatory Guidance and Generic Issues Branch, Division of Engineering, Office of Nuclear Regulatory Research.

[FR Doc. 2018-20864 Filed 9-25-18; 8:45 am]

BILLING CODE 7590-01-P